DEPARTMENT OF COMMERCE

National Oceanic and Atmospheric Administration

50 CFR Part 635

[Docket No. 020325070-3146-04; I.D. 071299C]

RIN 0648-AM91

Atlantic Highly Migratory Species (HMS); Fishing Vessel Permits; Charter Boat Operations; Temporary Rule

AGENCY: National Marine Fisheries Service (NMFS), National Oceanic and Atmospheric Administration, Commerce.

ACTION: Final rule; temporary rule.

SUMMARY: This rule provides a limited time during which Atlantic Tunas General category permit holders may change to the new Atlantic HMS Angling category. This one-time allowance is meant to alleviate confusion resulting from the establishment of this new permit category.

DATES: Effective June 9, 2003, through July 9, 2003. All permit changes must be made by July 9, 2003.

FOR FURTHER INFORMATION CONTACT: Mark Murray-Brown or Brad McHale at 978-281-9260.

SUPPLEMENTARY INFORMATION: A final rule published on December 18, 2002 (67 FR 77434), established a new HMS Angling category vessel permit. This new permit category was meant to allow recreational fishers to fish for, possess, and retain HMS. Further, the final rule specified that Atlantic Tunas General category permits could no longer be used by recreational fishers to fish for, possess, or retain HMS other than bluefin tuna. The final rule also specified that vessel category changes could not be made after a permit is issued for a fishing year.

NMFS has recently received comments that the new permit category and the change to activities formerly allowed under General category rules has caused confusion. Due to this confusion, many permit holders obtained Atlantic Tunas General category vessel permits in error. Due to the unique circumstances of the new HMS Angling permit requirement, this rule provides a 30 day period for Atlantic Tunas General category permit holders to change their permit category and obtain Atlantic HMS Angling category permits. Pending receipt of a new permit, permit holders are subject to the regulations applicable to their currently held permits.

Permit Category Changes

NMFS maintains an automated permitting system for the issuance of Atlantic tunas vessel permits and HMS Angling vessel permits. To make a permit category change under this temporary rule, dial (888) 872-8862 and press “0” from the main menu to reach a Customer Service representative.

Classification

This rule is published under the authority of the Magnuson-Stevens Fishery Conservation and Management Act (Magnuson-Stevens Act) and the Atlantic Tunas Convention Act.

The Assistant Administrator for Fisheries, NOAA (AA), has determined that this rule is consistent with the Magnuson-Stevens Act and other applicable laws.

The Assistant Administrator for Fisheries, NOAA (AA), finds for good cause that providing prior notice and public comment for this temporary rule, as required under 5 U.S.C. 553(b)(B), is impracticable and contrary to the public interest. The Atlantic HMS Fishery opened on June 1, 2003. Over the past week, fishermen notified NMFS that, as a result of confusion regarding the new HMS recreational Angling permit requirement, they had unintentionally applied for and received General category permits. Having General category permits precludes them from participating in recreational tournaments. Tournaments are underway now and are scheduled throughout the summer. Because the fishery has already begun and tournaments are currently taking place, providing prior notice and an opportunity for public comment on allowing fishermen who intended to fish under the new Angling category to change from their incorrect permit category would effectively prevent these fishermen from being allowed to fish.

Because this rule relieves a restriction by allowing an otherwise prohibited permit change, it is not subject to a 30-day delay in effective date pursuant to 5 U.S.C. 553(d)(1).

NMFS will rapidly communicate this action to fishery participants through its FAX network and HMS Information Line.

Because prior notice and opportunity for public comment are not required for this rule by 5 U.S.C. 553, or by any other law, the analytical requirements of the Regulatory Flexibility Act, 5 U.S.C. 601 et seq., are inapplicable.

This action is not significant within the meaning of Executive Order 12866.

Dated: June, 9, 2003.
William T. Hogarth,
Assistant Adminstrator for Fisheries, National Marine Fisheries Service.

[FR Doc. 03-14863 Filed 6-9-03; 1:12 pm]

BILLING CODE 3510-22-S